DEPARTMENT OF THE INTERIOR

Fish and Wildlife Service

[FWS-HQ-ES-2017-N142]; [FF09E42000 178 FXES11130900000]

Endangered Species; Issuance of Recovery Permits and Interstate Commerce Permits January 2, 2017, through June 30, 2017

AGENCY: Fish and Wildlife Service, Interior.

ACTION: Notice.

SUMMARY: We, the U.S. Fish and Wildlife Service, have issued permits to conduct activities with endangered and threatened species under the authority of the Endangered Species Act, as amended (ESA). With some exceptions, the ESA prohibits activities involving listed species unless a Federal permit is issued that allows such activity. We provide this list for the convenience of the public as a summary of our permit issuances for the first 6 months of calendar year 2017.

FOR FURTHER INFORMATION CONTACT: See the contact information in the Permits Issued section.

SUPPLEMENTARY INFORMATION: We have issued permits to conduct activities with endangered and threatened species in response to recovery permit applications that we received under the authority of section 10(a)(1)(A) of the Endangered Species Act of 1973 (16 U.S.C. 1531 et seq.; ESA). These permits were issued between January 1, 2017, and June 30, 2017. Each permit was issued only after we determined that it was applied for in good faith, that granting the permit would not be to the disadvantage of the listed species, that the proposed activities were for scientific research or would benefit the recovery or the enhancement of survival of the species, and that the terms and conditions of the permits were consistent with the purposes and policy set forth in the ESA.

Permits Issued

Region 1 (Pacific Region: Hawaii, Idaho, Oregon (except for the Klamath Basin), Washington, American Samoa, Commonwealth of the Northern Mariana Islands, Guam, and the Pacific Trust Territories)

The following permits were applied for and issued in Region 1. For more information about any of the following permits, contact the Recovery Permit Coordinator by email at PermitsR1ES@fws.gov or by telephone at 503-231-6131.

Permit No. | Date issued | Applicant name
005901 | 01/19/17 | BUREAU OF LAND MANAGEMENT.
86029B | 01/20/17 | JOINT BASE LEWIS-MCCHORD.
08607C | 01/25/17 | SAMISH INDIAN NATION.
05083C | 02/02/17 | SCHWAB, NATHAN A.
56898B | 02/27/17 | BOWERMAN, WILLIAM J.
054395 | 03/02/17 | BUREAU OF LAND MANAGEMENT, MEDFORD DISTRICT OFFICE.
146777 | 03/02/17 | DIBBEN-YOUNG, ARLEONE.
79902A | 03/06/17 | UNIVERSITY OF OREGON.
94776A | 03/08/17 | IDAHO COOPERATIVE FISH AND WILDLIFE RESEARCH UNIT.
02670A | 03/13/17 | ROBERTSON, IAN C.
197936 | 03/15/17 | THE NATURE CONSERVANCY.
89863B | 03/17/17 | OREGON STATE UNIVERSITY.
80538A | 03/20/17 | H.T. HARVEY & ASSOCIATES.
040238 | 03/27/17 | YAKAMA NATION WILDLIFE PROGRAM.
068143 | 03/27/17 | EASTERN WASHINGTON UNIVERSITY.
22353B | 03/27/17 | CENTER FOR NATURAL LANDS MANAGEMENT.
63382B | 03/29/17 | NYMAN, STEPHEN.
040827 | 04/05/17 | WASHINGTON STATE DEPARTMENT OF NATURAL RESOURCES.
001598 | 04/10/17 | BUREAU OF INDIAN AFFAIRS—NEZ PERCE TRIBE.
20533C | 04/17/17 | KAYLOR, MATTHEW JOSEPH.
24861C | 05/10/17 | MOUNT RAINIER NATIONAL PARK.
001823 | 05/25/17 | WALLOWA-WHITMAN NATIONAL FOREST.
19076C | 05/31/17 | GUAM DEPARTMENT OF AGRICULTURE—DIVISION OF AQUATIC AND WILDLIFE RESOURCES.
088853 | 06/02/17 | WINDWARD ENVIRONMENTAL LLC.
19045C | 06/02/17 | HAWAII DEPARTMENT OF LAND AND NATURAL RESOURCES—DIVISION OF FORESTRY AND WILDLIFE.
78052A | 06/13/17 | COASTAL WATERSHED INSTITUTE.
22702C | 06/14/17 | INTERMOUNTAIN BIRD OBSERVATORY.
31672C | 06/14/17 | ENGINEER RESEARCH AND DEVELOPMENT CENTER—COLD REGIONS RESEARCH AND ENGINEERING LABORATORY.
22353B | 06/21/17 | CENTER FOR NATURAL LANDS MANAGEMENT.
842449 | 06/22/17 | OLYMPIC NATIONAL PARK.
85447A | 06/22/17 | WEST FORK ENVIRONMENTAL, INC.
19239B | 06/27/17 | WASHINGTON DEPARTMENT OF FISH AND WILDLIFE.
31850C | 06/28/17 | U.S. BUREAU OF RECLAMATION.

Region 2 (Southwest Region: Arizona, New Mexico, Oklahoma, and Texas)

The following permits were applied for and issued in Region 2. For more information about any of the following permits, contact the Recovery Permit Coordinator by email at PermitsR2ES@fws.gov or by telephone at 505-248-6665.

Permit No. | Date issued | Applicant name
041875 | 01/04/17 | KOPROWSKI, JOHN.
02164C | 02/21/17 | UNIVERSITY OF ARIZONA.
87860B | 03/06/17 | GREEN, DANA M.
87857B | 03/06/17 | GREEN, ERIC NATHANIEL.
96189B | 03/06/17 | TERRY, ADAM P.
54802B | 03/06/17 | PHILLIPS-SCHAAP, MEGAN ELIZABETH.
18891C | 03/06/17 | CANNON, JOHN W.
84338B | 03/06/17 | LEE, ERICA T.
00540C | 04/03/17 | MCBEE, KAREN.
88227B | 04/03/17 | DEATHERAGE, JAY BRIAN.
830177 | 04/03/17 | UNIVERSITY OF TEXAS MARINE SCIENCE INSTITUTE.
64616B | 04/06/17 | NATIONAL PARK SERVICE—VALLES CALDERA NATIONAL PRESERVE.
000948 | 04/10/17 | WESTERN NEW MEXICO UNIVERSITY.
834782 | 04/10/17 | WESTLAND RESOURCES, INC.
830213 | 04/10/17 | ECOPLAN ASSOCIATES, INC.
799103 | 04/10/17 | HICKS & COMPANY.
799103 | 04/10/17 | HICKS & COMPANY.
143922 | 04/10/17 | BIO-SPATIAL SERVICES, INC.
24806C | 04/10/17 | WOODROW, REUVIN P.
24805C | 04/10/17 | STONE, JENNIFER M.
168185 | 04/17/17 | COX/MCLAIN ENVIRONMENTAL CONSULTING, INC.
827726 | 04/17/17 | U.S. FOREST SERVICE—TONTO NATIONAL FOREST.
837751 | 04/17/17 | USDI, BUREAU OF RECLAMATION—PHOENIX.
800923 | 04/17/17 | UNIVERSITY OF ARIZONA.
207863 | 04/17/17 | AECOM TECHNICAL SERVICES, INC.
127287 | 04/17/17 | AMMERMAN, LOREN K.
053085 | 04/17/17 | BUREAU OF RECLAMATION—BOULDER CITY.
840727 | 04/17/17 | NATIONAL PARK SERVICE.
17901C | 04/17/17 | VOYLES, JAMIE L.
02234C | 04/17/17 | UNIVERSITY OF ARIZONA.
88716B | 04/17/17 | CARROLL, SHAWN E.
066226 | 04/17/17 | MOORS, AMANDA K.
069320 | 04/17/17 | GROUNDWATER & ENVIRONMENTAL SERVICES INC.
051839 | 04/17/17 | U.S. FISH AND WILDLIFE SERVICE, REGION 2.
37418B | 04/24/17 | BROWN AND GAY ENGINEERS, INC.
65178A | 04/24/17 | REIDY, JENNIFER L.
043231 | 04/24/17 | STANTEC CONSULTING SERVICES, INC.
22964C | 04/24/17 | MEMPHIS ZOO.
92222A | 04/24/17 | PINTO-TORRES, ELENA C.
72079A | 04/24/17 | RINNE, JOHN N.
35163A | 04/24/17 | GRZYBOWSKI, JOSEPH A.
206016 | 04/30/17 | MIDDICK, ANDREW R.
839848 | 05/01/17 | USDA FOREST SERVICE—CARSON NATIONAL FOREST.
11265C | 05/08/17 | GLEN CANYON NATIONAL RECREATION AREA NATIONAL PARK SERVICE.
19661B | 05/08/17 | TETRA TECH, INC.
045236 | 05/08/17 | SWCA ENVIRONMENTAL CONSULTANTS.
11267C | 05/10/17 | BUSCHOW, MARISSA ANN.
12438C | 05/10/17 | UNIVERSITY OF TEXAS AUSTIN.
88214B | 05/10/17 | MACEY, JOHN N.
168189 | 05/10/17 | GREEN, MICHAEL CLAY.
081884 | 05/10/17 | GLUESENKAMP, ANDREW G.
21339C | 05/10/17 | ANDERSEN, ERIK M.
19907C | 05/10/17 | MILLER, AMANDA LILLIE.
17907C | 05/10/17 | LANDHAWK CONSULTING LLC.
17880C | 05/10/17 | GARRETT, TIMOTHY BRENT.
17466C | 05/10/17 | DICKSON, DAVID L.
17040C | 05/10/17 | SAMOLLOW, PAUL B.
17037C | 05/10/17 | INTERNATIONAL BOUNDARY AND WATER COMMISSION.
17021C | 05/10/17 | BEARD, APRIL MICHELLE.
023643 | 05/10/17 | US ARMY, III CORPS AND FORT HOOD.
48572B | 05/10/17 | CIENEGA ENVIRONMENTAL, INC.
828963 | 05/17/17 | CONNORS STATE COLLEGE.
030115 | 05/17/17 | BUREAU OF LAND MANAGEMENT—SAFFORD FIELD OFFICE.
799099 | 05/17/17 | EAGLE ENVIRONMENTAL, INC.
97234B | 05/17/17 | DUGAS, AARON CHARLES.
799103 | 05/17/17 | HICKS & COMPANY.
10642C | 05/22/17 | WILLIAMS, JEFFERY A.
88519A | 05/22/17 | U.S. FOREST SERVICE.
819475 | 05/22/17 | BUREAU OF RECLAMATION.
082498 | 05/22/17 | NATIONAL PARK SERVICE—FLAGSTAFF AREA NATIONAL MONUMENTS.
35437B | 05/23/17 | USDA FOREST SERVICE—SANTA FE NATIONAL FOREST.
041875 | 05/29/17 | KOPROWSKI, JOHN L.
819549 | 05/30/17 | HUALAPAI TRIBE.
32428C | 05/30/17 | HABITAT MANAGEMENT INC.
95112B | 05/30/17 | BLANCHARD ENVIRONMENTAL CONSULTING.
068189 | 05/30/17 | ARCHAEOLOGICAL CONSULTING SERVICES, LTD.
63202B | 06/02/17 | CHAMBERS, CAROL L.
829761 | 06/09/17 | BUREAU OF LAND MANAGEMENT—LAS CRUCES.
10107C | 06/12/17 | BANDELIER NATIONAL MONUMENT.
80964B | 06/12/17 | RIECK, JEAN MARIE LOVERICH.
181762 | 06/12/17 | SEA TURTLE, INC.
84375B | 06/12/17 | JOHNSON, MARY ELIZABETH.
819491 | 06/19/17 | ECOSPHERE ENVIRONMENTAL SERVICES.
52420A | 06/19/17 | PIMA COUNTY, ARIZONA.
144755 | 06/19/17 | REAGAN SMITH ENERGY SOLUTIONS, INC.
34462C | 06/19/17 | MENGEL, DENNIS L.
054791 | 06/30/17 | MARSHALL, BRYCE L.
20270C | 06/30/17 | NATIONAL PARK SERVICE.

Region 3 (Midwest Region: Illinois, Indiana, Iowa, Michigan, Minnesota, Missouri, Ohio, and Wisconsin)

The following permits were applied for and issued in Region 3. For more information about any of the following permits, contact the Recovery Permit Coordinator by email at PermitsR3ES@fws.gov or by telephone at 612-713-5343.

Permit No. | Date issued | Applicant name
64241B | 02/03/17 | BARKER LEMAR ENGINEERING CONSULTANTS.
11170C | 02/08/17 | CABLE, ASHLEIGH B.
181256 | 02/10/17 | LEWIS ENVIRONMENTAL CONSULTING, LLC.
106217 | 02/27/17 | TOLEDO ZOOLOGICAL SOCIETY.
194099 | 02/27/17 | HOGGARTH, MICHAEL A.
85231B | 02/27/17 | KALAMAZOO NATURE CENTER.
86137B | 03/27/17 | THE NATURE CONSERVANCY—MINNESOTA CHAPTER.
14549C | 03/29/17 | HERRERA, LARISSA S.
64238B | 04/11/17 | KARSK, JOCELYN R.
74488B | 04/11/17 | MISSOURI COOPERATIVE RESEARCH UNIT.
30234C | 04/19/17 | ILLINOIS NATURAL HISTORY SURVEY.
13571C | 04/20/17 | MOORE, JENNIFER ANN.
29691C | 04/20/17 | GONZALEZ-SOCOLOSKE, DANIEL.
15676C | 04/21/17 | UNIVERSITY OF ILLINOIS.
25752C | 04/25/17 | EDWARD LOWE FOUNDATION.
25784C | 04/27/17 | KINGSBURY, BRUCE A.
30312C | 04/27/17 | JEFFREY G DAVIS, LLC.
04398C | 05/09/17 | ARNDT, ROBERT J.
30313C | 05/09/17 | DOUG WYNN, LCC.
86141B | 05/10/17 | RUSSELL, ROBIN E.
15128C | 05/11/17 | OHIO DEPARTMENT OF TRANSPORTATION.
01322C | 05/12/17 | USDA FOREST SERVICE.
99059B | 05/24/17 | UNIVERSITY OF WISCONSIN—MADISON.
02651A | 05/25/17 | OHIO DEPARTMENT OF TRANSPORTATION.
697830 | 05/30/17 | U.S. FISH AND WILDLIFE SERVICE.
73584A | 05/30/17 | ILLINOIS NATURAL HISTORY SURVEY.
206781 | 05/31/17 | ECOLOGICAL SPECIALISTS, INC.
48835A | 06/02/17 | APPLIED SCIENCE & TECHNOLOGY, INC.
182436 | 06/14/17 | ILLINOIS NATURAL HISTORY SURVEY.
14588C | 06/16/17 | SMITH, DANE A.
15664C | 06/18/17 | MCKAY, APRIL I.R.
120259 | 06/20/17 | MISSOURI DEPARTMENT OF CONSERVATION.
11135C | 06/20/17 | HERPETOLOGICAL RESOURCE AND MANAGEMENT, LLC.
02344A | 06/22/17 | MAINSTREAM COMMERCIAL DIVERS, INC.
40128B | 06/22/17 | MAINSTREAM COMMERCIAL DIVERS, INC.
15027A | 06/29/17 | STANTEC CONSULTING SERVICES, INC.

Region 4 (Southeast Region: Alabama, Arkansas, Florida, Georgia, Kentucky, Louisiana, Mississippi, North Carolina, South Carolina, and Tennessee, Commonwealth of Puerto Rico, and the U.S. Virgin Islands)

The following permits were applied for and issued in Region 4. For more information about any of the following permits, contact the Recovery Permit Coordinator by email at PermitsR4ES@fws.gov or by telephone at 404-679-7140.

Permit No. | Date issued | Applicant name
054973 | 01/07/17 | HADDAD, NICK.
34778A | 01/09/17 | U.S. GEOLOGICAL SURVEY.
089075 | 01/25/17 | ODDY, DONNA MARIE.
13193C | 01/26/17 | MILLER, STEPHEN P.
14498C | 02/07/17 | WHITEHEAD, BRYAN JAMES.
08606C | 02/09/17 | JACKSONVILLE ZOOLOGICAL SOCIETY.
14534C | 02/09/17 | TUCKER, MATTHEW D.
14805C | 02/09/17 | PIERSON, MATTHEW T.
18836C | 02/13/17 | NOBLIN, JOSHUA T.
070796 | 02/14/17 | APOGEE ENVIRONMENTAL & ARCHAEOLOGICAL, INC.
20761C | 02/15/17 | BROPHY, TIMOTHY EARL.
20763C | 02/15/17 | COREY, RAYMOND L.
18508C | 02/21/17 | DANIEL, CHRISTOPHER ROSS.
18731C | 02/21/17 | WILLIAMS, GERALD ANTHONY.
19771C | 02/22/17 | BENKER, KARIN E.
81353B | 02/25/17 | PENK, STEPHANIE ROSE.
88797B | 02/26/17 | NOLDER, AMBER DAWN.
81587B | 03/02/17 | SILVIS, ALEXANDER.
207117 | 03/03/17 | SOUTH CAROLINA PARKS, RECREATION & TOURISM.
79580A | 03/07/17 | BUTLER, JASON M.
81492B | 03/08/17 | BROOKS, DYLAN L.
54578B | 03/09/17 | FRAZER, MARY E.
148282 | 03/10/17 | WILHIDE, JACK (J.D.) D.
11044C | 03/10/17 | NEWMAN, TYLER C.
22311A | 03/13/17 | GEORGE, ANNA L.
81500B | 03/20/17 | SAMORAY, SARA E.
13255C | 03/21/17 | ANGELI, STEPHEN LARRY.
087191 | 03/22/17 | SANDHILLS ECOLOGICAL INSTITUTE.
14046C | 03/31/17 | MUSEUM OF SCIENCE INC.
079863 | 04/07/17 | GANGLOFF, MICHAEL M.
28831C | 04/11/17 | POTT, KENNETH CHRISTOPHER.
30622C | 04/13/17 | KOT, MATTHEW TROY.
20269C | 04/19/17 | BYERLY, PAIGE A.
62778B | 04/21/17 | OSBORNE, CHANSTON TURNER.
810274 | 04/23/17 | ECO-TECH CONSULTANTS, INC.
48579B | 04/26/17 | ECOLOGICAL SOLUTIONS INC.
33020C | 04/27/17 | BERTANI, PAUL J.
020890 | 05/01/17 | NATIONAL FORESTS IN MISSISSIPPI.
114069 | 05/02/17 | FAIRCHILD TROPICAL BOTANIC GARDEN.
33392C | 05/02/17 | HARRIS, AUSTIN B.
009638 | 05/03/17 | COMPTON, TIMOTHY B.
065756 | 05/05/17 | ALDERMAN, JOHN M.
28597A | 05/05/17 | ALDERMAN, JOSEPH D.
88809B | 05/05/17 | EATON, RAY WARREN.
206872 | 05/08/17 | O'KEEFE, JOY MARIE.
02166C | 05/09/17 | BRYANT, ZOE DEANNA.
23583B | 05/17/17 | OBER, HOLLY K.
63349B | 05/17/17 | LINDEMAN, PETER V.
16616C | 05/18/17 | NUPP, THOMAS E.
88823B | 05/19/17 | SCHAETZ, BRIAN A.
48579B | 05/23/17 | ECOLOGICAL SOLUTIONS INC.
36768C | 06/01/17 | COLUMBUS STATE UNIVERSITY.
56746B | 06/01/17 | JOHNSON, JOSEPH S.
36080C | 06/02/17 | ROBBINS, KATHLEEN MCCULLOUGH.
36084C | 06/02/17 | ROBBINS, KATHLEEN MCCULLOUGH.
26554C | 06/09/17 | CENTRAL FLORIDA ZOOLOGICAL SOCIETY.
049502 | 06/12/17 | HAAS, CAROLA A.
63633A | 06/12/17 | BIODIVERSITY RESEARCH INSTITUTE.
008077 | 06/13/17 | PALIS, JOHN G.
210423 | 06/16/17 | VOLUSIA COUNTY.
91755B | 06/16/17 | CLICK, NATHAN D.
56430B | 06/18/17 | HOOTMAN, JONATHAN ROBERT.
40523A | 06/19/17 | NELSON, DAVID H.
084054 | 06/20/17 | AECOM.
12399A | 06/20/17 | AUDUBON NATURE INSTITUTE.
37538C | 06/20/17 | RAMSEY, MICHAEL E.
27450C | 06/21/17 | BUTLER, BENJAMIN.
53149B | 06/27/17 | OTTO, HANS WILLIAM.
41955C | 06/29/17 | MILLER, ANTHONY T.

Region 5 (Northeast Region: Connecticut, Delaware, District of Columbia, Maine, Maryland, Massachusetts, New Hampshire, New Jersey, New York, Pennsylvania, Rhode Island, Vermont, Virginia, and West Virginia)

The following permits were applied for and issued in Region 5. For more information about any of the following permits, contact the Recovery Permit Coordinator by email at PermitsR5ES@fws.gov or by telephone at 703-358-2402.

Permit No. | Date issued | Applicant name
18682C | 03/13/17 | CONSERVATION FISHERIES, INC.
01721C | 04/13/17 | U.S. FISH AND WILDLIFE SERVICE.
14668C | 04/13/17 | SEA TURTLE RECOVERY.
01753C | 05/03/17 | BLACK BEAR HYDRO PARTNERS, LLC.
01355C | 05/05/17 | USFWS SILVIO O. CONTE NATIONAL FISH AND WILDLIFE REFUGE.
86357B | 06/14/17 | FELLER, DANIEL.

Region 6 (Mountain-Prairie Region: Colorado, Kansas, Montana, Nebraska, North Dakota, South Dakota, Utah, and Wyoming)

The following permits were applied for and issued in Region 6. For more information about any of the following permits, contact the Recovery Permit Coordinator by email at PermitsR6ES@fws.gov or by telephone at 719-628-2670.

Permit No. | Date issued | Applicant name
053737 | 01/09/17 | U.S. FOREST SERVICE.
052627 | 01/15/17 | TOLEDO ZOOLOGICAL GARDENS.
049109 | 01/25/17 | RED BUTTE BOTANIC GARDEN AND ARBORETUM.
00484C | 01/25/17 | UNIVERSITY OF NEBRASKA, AT KEARNEY.
00396C | 01/25/17 | TETRA TECH, INC.
94926A | 01/31/17 | DUNMIRE CONSULTING.
08789C | 01/31/17 | DICKINSON, MATTHEW R.
31151B | 01/31/17 | CONFEDERATED SALISH AND KOOTENAI TRIBES.
077533 | 02/06/17 | MONTANA DEPARTMENT OF FISH, WILDLIFE AND PARKS.
04585C | 02/10/17 | FORT BELKNAP FISH & WILDLIFE DEPARTMENT.
047290 | 02/10/17 | COLORADO PARKS AND WILDLIFE.
27491B | 03/08/17 | PG ENVIRONMENTAL, LLC.
067729 | 03/13/17 | KANSAS STATE UNIVERSITY.
85664B | 03/20/17 | WINGATE BIOLOGICAL SOLUTIONS, LLC.
86586B | 03/20/17 | GREULICH, MELISSA MARIE.
036703 | 03/20/17 | EL PASO COUNTY ENVIRONMENTAL SERVICES DEPARTMENT.
069300 | 03/21/17 | NEBRASKA GAME AND PARKS COMMISSION.
056003 | 03/21/17 | DETROIT ZOOLOGICAL SOCIETY.
09897C | 03/28/17 | DUFFY, DEIDRE JANE.
06556C | 03/31/17 | BOWEN COLLINS & ASSOCIATES.
12496C | 03/31/17 | SKARTVEDT, PETER H.
052582 | 03/31/17 | TRC ENVIRONMENTAL CORPORATION.
053961 | 04/07/17 | OMAHA'S HENRY DOORLY ZOO & AQUARIUM.
66793A | 04/23/17 | TWO R RANCH WILDLIFE CONSULTING.
067729 | 04/24/17 | KANSAS STATE UNIVERSITY.
94926A | 04/25/17 | DUNMIRE CONSULTING.
124904 | 04/25/17 | SOUTH DAKOTA DEPARTMENT OF GAME, FISH AND PARKS.
71872A | 04/25/17 | WYOMING NATURAL DIVERSITY DATABASE.
085324 | 04/26/17 | WYOMING NATURAL DIVERSITY DATABASE.
047808 | 05/30/17 | NATIONAL PARK SERVICE.
91328B | 05/30/17 | NORTH DAKOTA STATE UNIVERSITY.
038221 | 06/05/17 | CENTRAL NEBRASKA PUBLIC POWER & IRRIGATION DISTRICT.
047252 | 06/07/17 | SWCA, INC. ENVIRONMENTAL CONSULTANTS.
09941B | 06/07/17 | FELSBURG HOLT & ULLEVIG, INC.
039100 | 06/08/17 | NEBRASKA PUBLIC POWER DISTRICT.
26584C | 06/08/17 | TWO DOT CONSULTING.
66793A | 06/08/17 | TWO R RANCH WILDLIFE CONSULTING.
39716C | 06/21/17 | BEASON, JASON P.
30363C | 06/21/17 | GRAND TETON NATIONAL PARK.
27147C | 06/27/17 | ST PIERRE, JASON E.
33389C | 06/29/17 | LEWIS, LEAH R.
061680 | 06/30/17 | CITY OF BOULDER OPEN SPACE & MOUNTAIN PARKS.

Region 7 (Alaska Region)

The following permits were applied for and issued in Region 7. For more information about any permits, contact the Recovery Permit Coordinator by email at PermitsR7ES@fws.gov or by telephone at 907-786-3323.

Permit No. | Date issued | Applicant name
778102 | 01/01/17 | U.S. FISH AND WILDLIFE SERVICE, REGION 7.
12155 | 05/01/17 | ABR, INC.

Region 8 (Pacific Southwest Region: California, Nevada, and the Klamath Basin Portion of Oregon)

The following permits were applied for and issued in Region 8. For more information about any of the following permits, contact the Recovery Permit Coordinator by email at PermitsR8ES@fws.gov or by telephone at 760-431-9440.

Permit No. | Date issued | Applicant name
67397A | 01/05/17 | RICKS, TIMOTHY W.
89994B | 01/05/17 | SNIDER, DARIA M.
89991B | 01/05/17 | VONDEROHE, SARAH M.
64146A | 01/05/17 | VALCARCEL, PATRICIA MARIE.
082546 | 01/05/17 | ELKHORN SLOUGH NATIONAL ESTUARINE RESEARCH RESERVE.
64580A | 01/05/17 | RICE, NICHOLAS A.
098997 | 01/05/17 | WARRICK, GREGORY D.
067990 | 01/05/17 | DUGAN, BARBIE J.
48149A | 01/19/17 | LIM, TAMMY C.
085050 | 01/20/17 | NAGY, KENNETH A.
80705A | 01/23/17 | SIERRA PACIFIC INDUSTRIES.
87004B | 01/24/17 | BAXTER, TARA RAYE.
053741 | 01/24/17 | SAN DIEGO NATIONAL WILDLIFE REFUGE COMPLEX.
36118B | 01/24/17 | AMOAKU, CALLIE JOY FORD.
181738 | 01/25/17 | U.S. ENVIRONMENTAL PROTECTION AGENCY.
27501B | 01/26/17 | KEGEL, TRAVIS S.
170381 | 01/26/17 | STAGNARO, WILLIAM FRANCIS.
94998A | 01/26/17 | LIU, LEONARD Y.
027296 | 01/26/17 | FAWCETT, MICHAEL H.
86378B | 01/26/17 | THOMAS GAST & ASSOCIATES ENVIRONMENTAL CONSULTANTS.
018909 | 02/02/17 | RIOS, KELLY M.
58862A | 02/02/17 | MASON, GREG G.
148552 | 02/02/17 | BURGER, HOLLY M.
17838A | 02/02/17 | UNIVERSITY OF GEORGIA.
001618 | 02/03/17 | FREMONT-WINEMA NATIONAL FOREST, U.S. FOREST SERVICE.
53771B | 02/07/17 | BERGMAN, ERIN JO.
157216 | 02/09/17 | U.S.G.S.—WESTERN ECOLOGICAL RESEARCH CENTER.
12511A | 02/09/17 | ALLAN, KATHRYN MAUREEN.
092476 | 02/13/17 | QUINNELL, SCOTT F.
221287 | 02/13/17 | SAUCEDO, DIANA G.
227263 | 02/14/17 | STRAUSS, EMILIE A.
786728 | 02/14/17 | AVOCET RESEARCH ASSOCIATES.
778668 | 02/14/17 | MORI, BRYAN M.
126141 | 02/14/17 | STOCKWELL, CRAIG A.
04969C | 02/15/17 | DESILVA, TARA S.
56733A | 02/15/17 | KLINGONSMITH, RHIANNON.
72275B | 02/16/17 | BISHOP, MEGHAN R.
787644 | 02/17/17 | VANHERWEG, WILLIAM J.
08293C | 02/21/17 | MARELLA, TRAVIS STEVEN.
01769B | 02/22/17 | REEBS, JESSE LEE.
13115C | 02/22/17 | HENDERSON, LISA.
058630 | 02/22/17 | MENDOCINO REDWOOD COMPANY, LLC.
213308 | 02/28/17 | DIDONATO, JOSEPH E.
71995A | 03/01/17 | SHIELDS, TIMOTHY A.
094642 | 03/03/17 | SHAFFER, HOWARD BRADLEY.
036499 | 03/03/17 | GOLDEN GATE NATIONAL RECREATION AREA.
06145B | 03/16/17 | COOPER HILL, ALICIA ORNELAS.
96471A | 03/16/17 | HOLMES, MASON D.N.
98905A | 03/20/17 | HORD, PATRICK L.
14615C | 03/20/17 | ALLEN, CHRISTOPHER ETHAN.
045994 | 03/21/17 | U.S. GEOLOGICAL SURVEY—WESTERN ECOLOGICAL RESEARCH CENTER.
76006B | 03/21/17 | ZOOLOGICAL SOCIETY OF SAN DIEGO.
27242C | 03/21/17 | ANZA-BORREGO DESERT STATE PARK.
99374A | 03/22/17 | FRANKLIN, ALAN B.
59775A | 03/23/17 | SISK, NORMAN R.
162652 | 03/23/17 | SHEA, MARY A.
067992 | 03/30/17 | DUGAN, DANIEL S.
22879C | 04/06/17 | UNIVERSITY OF CALIFORNIA BOYD DEEP CANYON DESERT RESEARCH CENTER.
054120 | 04/10/17 | HUDDLESTON, RUSSELL T.
842267 | 04/10/17 | FOREMAN, STEVE.
094308 | 04/11/17 | LAWREY, SHAY E.
071215 | 04/11/17 | DOUBLEDEE, REBECCA A.
14577C | 04/11/17 | ALEXA, LINDAUER L.
040541 | 04/13/17 | EAST BAY MUNICIPAL UTILITY DISTRICT.
99057B | 04/13/17 | HOWARD, STEVE R.
14736C | 04/13/17 | STEELY, DARRELL RYAN.
174305 | 04/17/17 | VANDENBERG AIR FORCE BASE.
148554 | 04/18/17 | HEREDIA, AMBER O.
72047A | 04/18/17 | PERNICANO, MARTINA.
92719B | 04/18/17 | DAYTON, THOMAS ROBERT.
118356 | 04/18/17 | OLOFSON ENVIRONMENTAL, INC.
32004C | 04/18/17 | TUMA, MICHAEL W.
94714B | 04/18/17 | BOIANO, DANIEL M.
43668A | 04/19/17 | BRADEN, GERALD T.
88417B | 04/19/17 | PHOENIX BIOLOGICAL CONSULTING.
31406A | 04/19/17 | CALIFORNIA STATE PARKS.
92799B | 04/19/17 | FAIRCHILD, KARL C.
022765 | 04/19/17 | LYME REDWOOD FOREST COMPANY.
69070B | 04/20/17 | BOROKINI, TEMITOPE ISRAEL.
92770B | 04/24/17 | EAST BAY ZOOLOGICAL SOCIETY.
92167B | 04/25/17 | SAN FRANCISCO ZOOLOGICAL SOCIETY.
94642B | 04/25/17 | YEE, SUK-ANN.
36109B | 04/26/17 | GRIMALDO, LENNY F.
72013A | 04/26/17 | DURAND, JOHN R.
85771B | 04/26/17 | MULLEN, KAREN MARIE.
94719B | 04/26/17 | LIS, RICHARD A.
94702B | 04/26/17 | HUBBARD, KRISTIN E.
53825B | 04/27/17 | ZOOLOGICAL SOCIETY OF SAN DIEGO.
105545 | 04/27/17 | KNIGHT, WENDY M.F.
170528 | 04/27/17 | SEAY, STEPHANIE M.
17017C | 05/01/17 | SIANTA, SHELLEY ANN.
40087B | 05/02/17 | USDA FOREST SERVICE.
13115C | 05/03/17 | HENDERSON, LISA A.
029414 | 05/04/17 | MOORHATCH, NATHAN THOMAS.
836491 | 05/04/17 | WILCOX, MICHAEL D.
56889A | 05/04/17 | ODELL, MELISSA C.
198910 | 05/09/17 | UNITED STATES GEOLOGICAL SURVEY.
20284C | 05/12/17 | LESTER, GARY S.
035336 | 05/12/17 | VOLLMAR NATURAL LANDS CONSULTING.
027736 | 05/22/17 | LACOSTE, DAVID ERIK.
026659 | 05/22/17 | VENTANA WILDLIFE SOCIETY.
832946 | 05/22/17 | PIKE, JAMES E.
42833A | 05/23/17 | MAUNSELL, IAN E.D.
157291 | 05/23/17 | NATIONAL PARK SERVICE, PINNACLES NATIONAL PARK.
54710A | 05/24/17 | KELLY, MELISSA J.
807078 | 05/25/17 | POINT REYES BIRD OBSERVATORY.
177896 | 05/30/17 | MONTEREY BAY AQUARIUM.
030659 | 05/30/17 | US GEOLOGICAL SURVEY.
063608 | 06/07/17 | LOHSTROH, BRIAN S.
88597B | 06/21/17 | CRAWFORD, SCOTT ALAN.
097845 | 06/21/17 | MANTECH SRS TECHNOLOGIES INC.
96514A | 06/21/17 | AGUAYO, JONATHAN.
17211C | 06/21/17 | ZOOLOGICAL SOCIETY OF SAN DIEGO.
72044A | 06/21/17 | DEMETROPOULOS, CARL L.
99413B | 06/21/17 | KREJCA, SARAH A.
13632B | 06/22/17 | GREGG, ELENA C.
14532C | 06/22/17 | DONAGHE, HANNAH A.
785148 | 06/26/17 | AMEC FOSTER WHEELER.
54728A | 06/26/17 | SAN FRANCISCO RECREATION AND PARK DEPT.
027742 | 06/26/17 | UNIVERSITY OF CALIFORNIA—DAVIS.
06873C | 06/27/17 | ENVIRONMENTAL SCIENCE ASSOCIATES.
092162 | 06/27/17 | BORCHER, ANDREW F.
58888A | 06/27/17 | RITENOUR, DALE E.
94654B | 06/28/17 | MESA BIOLOGICAL, LLC.
166393 | 06/28/17 | TRENHAM, PETER CORNELL.
106908 | 06/28/17 | WARBURTON, MANNA L.

Availability of Documents

The Federal Register documents publishing the receipt of applications for these permits may be viewed here: https://www.fws.gov/policy/frsystem/default.cfm. Documents and other information submitted with these applications are available for review subject to the requirements of the Privacy Act (5 U.S.C. 552a) and Freedom of Information Act (5 U.S.C. 552), by any party who submits a written request for a copy of such documents. For detailed information regarding a particular permit, please contact the Region that issued the permit.

Authority

We provide this notice under the authority of section 10 of the ESA (16 U.S.C. 1531 et seq.).

Dated: November 3, 2017.
Don Morgan,
Chief, Branch of Recovery and State Grants.

[FR Doc. 2017-26531 Filed 12-7-17; 8:45 am]

BILLING CODE 4333-15-P